DEPARTMENT OF TRANSPORTATION

Federal Aviation Administration

Extension of Scoping Comment Period, Until December 9, 2002, on the Notice of Intent To Prepare Draft and Final Environmental Impact Statements for a Replacement Airport at St. George, UT

AGENCY: Federal Aviation Administration, DOT.

ACTION: Notice.

The Northwest Mountain Region, Airports Division, Federal Aviation Administration (FAA), announces it has extended, until December 9, 2002, the scoping comment period pertaining the FAA Notice of Intent to prepare Draft and Final Environmental Impact Statements (EIS) for the construction of a replacement airport at St. George, Utah.

Background

On January 30, 2001, the Federal Aviation Administration (FAA) issued a Record of Decision/Finding of No Significant Impact document for the construction of a replacement airport at St. George, Utah. On December 22, 2001, the Grand Canyon Trust filed suit against the FAA in the U.S. Circuit Court of Appeals for the District of Columbia Circuit. On May 24, 2002, the court issued it's decision on the issues. In summary, the court found that “the FAA must evaluate the cumulative impact of noise pollution of the Park (Zion National Park) as a result of construction of the proposed replacement airport in light of air traffic near and over the Park, from whatever airport, air tours near or in the Park, and the acoustical data collected by the NPS in the Park in 1995 and 1998 mentioned in comments on the draft Environmental Assessment (EA)”. The court remanded the case [to the FAA] “because the record is insufficient for the court to determine whether an EIS is required”.

The purpose of the Draft and final EIS's will be to address the court's issues and any other environmental issues that have changed since issuance of the final environmental assessment in January of 2001.

In previously issued notices (Federal Register and The Specturm Newspaper, St. George, Utah) some misunderstanding may have existed regarding the use of the word “Park” in the Background text. This notice clarifies that the Park in question is Zion National Park. Further, the FAA has extended the scoping comment period until December 9, 2002, to insure an adequate comment period with a clear understanding that the “Park” is Zion National Park.

Proposed Action and Alternatives

The proposed action is the construction of a replacement airport at St. George, Utah. Alternatives to be evaluated include:

a. No-Build (continue using the existing airport as is).

b. Build a replacement airport at the preferred site (which is a combination of alternative sites 1 and 1A), and

c. Alternative sites 1, 1A, and 2 as described on pages 32-40 of the final EA.

Scoping Process

The proposed action was the subject of a Final Environmental Assessment (FEA) report prepared in January 2001. Persons wishing to review the FEA in order to better understand the proposed action or provide comments regarding environmental concerns may review the FEA at the following locations:

Federal Aviation Administration, Airports Division, ANM-600, 1601 Lind Avenue, SW., Renton, Washington, 98055-4056.

Denver Airports District Office, 26805 E. 68th Ave., Suite 224, Denver, CO 80249-6361.

City of St. George, Public Works Office, 175 East 200 North, St. George, UT 84770.

Washington County Library, St. George Branch, 50 S. Main, St. George, Utah.

In order to insure that all significant issues related to the proposed action are identified and given consideration, letters containing environmental concerns must be received by Dennis Ossenkop, 1601 Lind Ave. SW., Suite 315, Renton, WA 98055-4056 by December 9, 2002.

Release of Draft EIS

Approximate Release of Draft EIS: Unknown at this time.

Point of Contact for Information

Dennis Ossenkop, 1601 Lind Ave. SW., Suite 315, Renton, WA 98055-4056, Telephone: 425 227 2611.

Dated: October 29, 2002.
Lowell H. Johnson,
Manager, Airports Division, Northwest Mountain Region.

[FR Doc. 02-28377 Filed 11-6-02; 8:45 am]

BILLING CODE 4910-13-M